ENVIRONMENTAL PROTECTION AGENCY

40 CFR Part 710

[OPPT-2003-0075; FRL-7332-3]

RIN 2070-AC61

TSCA Inventory Update Rule Corrections

AGENCY: Environmental Protection Agency (EPA).

ACTION: Direct final rule.

SUMMARY: EPA is taking direct final action to make several minor corrections to the Inventory Update Rule (IUR) reporting regulations. First, EPA is relocating the non-isolated intermediate definition to properly place it in the section of the regulation associated with both the IUR and the compilation of the TSCA Inventory. Second, the Agency is correcting the low current interest partial exemption chemical list by removing a chemical that is improperly identified and was mistakenly placed on the list. Third, EPA is correcting the percent production volume associated with the chemical substance's physical form(s) reporting requirement by removing the requirement that the sum of the percent production volumes be no more than 100%. Fourth, EPA is correcting overlapping site ranges in the number of sites code table. Fifth, EPA is correcting a misprint in a paragraph reference. Sixth, EPA is updating the procedure to obtain the reporting documents.

DATES: This direct final rule is effective on September 7, 2004, without further notice, unless EPA receives adverse comment by August 6, 2004. If, however, EPA receives adverse comment, EPA will publish a Federal Register document to withdraw the specific correction(s) for which the adverse comment was made before the effective date of the direct final rule.

The remaining corrections will become effective on September 7, 2004.

ADDRESSES: Submit your comments, identified by docket identification (ID) number OPPT-2003-0075, by one of the following methods:

• Federal eRulemaking Portal: http://www.regulations.gov/. Follow the on-line instructions for submitting comments.

• Agency Website: http://www.epa.gov/edocket/. EDOCKET, EPA's electronic public docket and comment system, is EPA's preferred method for receiving comments. Follow the on-line instructions for submitting comments.

• E-mail: oppt.ncic@epa.gov.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID number OPPT-2003-0075. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number OPPT-2003-0075. EPA's policy is that all comments received will be included in the public docket without change and may be made available on-line at http://www.epa.gov/edocket/, including any personal information provided, unless the comment includes information claimed to be Confidential Business Information (CBI) or other information whose disclosure is restricted by statute. Do not submit information that you consider to be CBI or otherwise protected through EDOCKET, regulations.gov, or e-mail. The EPA EDOCKET and the regulations.gov websites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses. For additional information about EPA's public docket, visit EDOCKET on-line or see the Federal Register of May 31, 2002 (67 FR 38102) (FRL-7181-7).

Docket: All documents in the docket are listed in the EDOCKET index at http://www.epa.gov/edocket/. Although listed in the index, some information is not publicly available, i.e., CBI or other information whose disclosure is restricted by statute. Certain other material, such as copyrighted material, is not placed on the Internet and will be publicly available only in hard copy form. Publicly available docket materials are available either electronically in EDOCKET or in hard copy at the OPPT Docket, EPA Docket Center, EPA West, Rm. B102, 1301 Constitution Ave., NW., Washington, DC. The Public Reading Room is open from 8:30 a.m. to 4:30 p.m., Monday through Friday, excluding legal holidays. The EPA Docket Center Reading Room telephone number is (202) 566-1744, and the telephone number for the OPPT Docket, which is located in the EPA Docket Center, is (202) 566-0280.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Susan Sharkey, Project Manager, Economics, Exposure and Technology Division (7406M), Office of Pollution Prevention and Toxics, Environmental Protection Agency, 1200 Pennsylvania Ave., NW., Washington, DC 20460; telephone number: (202) 564-8789; e-mail address: sharkey.susan@epa.gov.

SUPPLEMENTARY INFORMATION:

I. General Information

A. Does this Action Apply to Me?

You may be affected by this action if you manufacture (defined by statute at 15 U.S.C. 2602(7) to include import) chemical substances, including inorganic chemical substances, subject to reporting under the Inventory Update Rule (IUR) at 40 CFR part 710. Any use of the term “manufacture” in this document will encompass import, unless otherwise stated. In the past, persons that only are processors of chemical substances have not been required to comply with the requirements of 40 CFR part 710. These amendments do not change the status of processors under the regulations at 40 CFR part 710. Potentially affected entities may include, but are not limited to:

Chemical manufacturers and importers subject to IUR reporting, including chemical manufacturers and importers of inorganic chemical substances (NAICS codes 325, 32411).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions at 40 CFR 710.48. If you have any questions regarding the applicability of this action to a particular entity, consult the technical contact person listed under FOR FURTHER INFORMATION CONTACT.

B. How Can I Access Electronic Copies of this Document and Other Related Information?

In addition to using EDOCKET (http://www.epa.gov/edocket/), you may access this Federal Register document electronically through the EPA Internet under the “Federal Register” listings at http://www.epa.gov/fedrgstr/. A frequently updated electronic version of 40 CFR part 710 is available at E-CFR Beta Site Two at http://www.gpoaccess5.gov/ecfr/.

C. What Should I Consider as I Prepare My Comments for EPA?

1. Submitting CBI. Do not submit this information to EPA through EDOCKET, regulations.gov, or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the rulemaking by docket ID number and other identifying information (subject heading, Federal Register date, and page number).

ii. Follow directions. The Agency may ask you to respond to specific questions or organize comments by referencing a Code of Federal Regulations (CFR) part or section number.

iii. Explain why you agree or disagree; suggest alternatives, and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. Background

A. What is the Agency's Authority for Taking this Action?

EPA is required under TSCA section 8(b), 15 U.S.C. 2607(b), to compile and keep current an inventory of chemical substances manufactured or processed in the United States. This inventory is known as the TSCA Chemical Substances Inventory (the TSCA Inventory). In 1977, EPA promulgated a rule (42 FR 64572, December 23, 1977) under TSCA section 8(a), 15 U.S.C. 2607(a), to compile an inventory of chemical substances in commerce at that time. In 1986, EPA promulgated the initial Inventory Update Rule (IUR) reporting regulation under TSCA section 8(a) at 40 CFR part 710 (51 FR 21447, June 12, 1986) to facilitate the periodic updating of the TSCA Inventory and to support activities associated with the implementation of TSCA. In 2003, EPA promulgated amendments to the IUR (68 FR 848, January 7, 2003) (FRL-6767-4) (the 2003 Amendments) to collect manufacturing, processing, and use exposure-related information, and to make certain other changes.

TSCA section 8(a)(1) authorizes the EPA Administrator to promulgate rules under which manufacturers and processors of chemical substances and mixtures (referred to hereinafter as ``chemical substances'') must maintain such records and submit such information as the Administrator may reasonably require. TSCA section 8(a) generally excludes small manufacturers and processors of chemical substances from the reporting requirements established in TSCA section 8(a), although there are some exceptions under TSCA section 8(a)(3) to this general exclusion. Processors are not currently subject to the regulations at 40 CFR part 710.

B. What is the Inventory Update Rule (IUR)?

The data reported under the IUR are used to update the information maintained on the TSCA Inventory. EPA uses the TSCA Inventory and data reported under the IUR to support many TSCA-related activities and to provide overall support for a number of EPA and other Federal health, safety, and environmental protection activities.

The IUR, prior to its amendment in January 2003, required U.S. manufacturers of organic chemicals to report to EPA every 4 years the identity of chemical substances manufactured during the reporting year in quantities of 10,000 pounds or more at any plant site they own or control. Prior to its amendment, the IUR generally excluded several categories of substances from its reporting requirements, i.e., polymers, inorganic substances, microorganisms, and naturally occurring chemical substances. Plant sites were required to report information such as company name, plant site location, plant site Dun and Bradstreet number(s), identity of the reportable chemical substance, and production volume of each reportable chemical substance. Data were reported to EPA under the IUR in 1986, 1990, 1994, 1998, and 2002.

Due to extensive 2003 Amendments (68 FR 848), U.S. manufacturers of chemicals (no longer limited to just organic chemicals) are now required to report to EPA every 4 years the identity of chemical substances manufactured during the reporting year in quantities of 25,000 pounds or more at any plant site they own or control. The amended IUR continues to exclude several categories of substances from its reporting requirements, i.e., polymers, microorganisms, and naturally occurring chemical substances. Inorganic chemicals are no longer exempt and certain natural gas substances are now fully exempt. In addition to the information reported prior to the amendments, submitters now also are required to report additional manufacturing exposure-related data, including the physical form and maximum concentration of the chemical substance and the number of potentially exposed workers.

The 2003 Amendments also established a second reporting threshold for larger volume chemicals of 300,000 pounds or more manufactured during the reporting year at any plant site for reporting of certain processing and use information (40 CFR 710.52(c)(4)). This information includes process or use category, NAICS code, industrial function category, percent production volume, number of use sites, number of potentially exposed workers, and consumer/commercial information such as use category, use in or on products intended for use by children, and maximum concentration. For the submission period occurring in 2006, inorganic chemicals, regardless of production volume, are partially exempt (i.e., submitters do not report processing and use information for inorganic chemicals). After the 2006 cycle, the partial exemption for inorganic chemicals is no longer applicable and submitters are required to fully report information on inorganic chemical substances. In addition, specifically listed petroleum process streams and other specifically listed chemical substances are partially exempt, and manufacturers of such substances are not required to report processing and use information.

C. What Action is the Agency Taking?

Through this action, EPA is making the following minor corrections to the IUR.

1. Definition--non-isolated intermediate. EPA is moving the definition for “non-isolated intermediate” from 40 CFR 710.43 to 40 CFR 710.3. Prior to the 2003 Amendments, definitions for both the IUR and the compilation of the TSCA Inventory were included in one definition section within 40 CFR part 710. The 2003 Amendments, however, created two separate definition sections within 40 CFR part 710; one for terms that apply solely to the IUR regulations (see 40 CFR 710.43), and the other for terms that may be used in both the regulations associated with the compilation of the TSCA Inventory, and in the IUR regulations (see 40 CFR 710.3). In the 2003 Amendments, EPA included the definition for “non-isolated intermediate” in 40 CFR 710.43. This was erroneous because the term is used in the regulations associated with the compilation of the TSCA Inventory (see 40 CFR 710.4(d)(8)). As a result, EPA is moving this definition to 40 CFR 710.3. This relocation is purely administrative, and does not have any substantive effect on the meaning or use of the term “non-isolated intermediate” within the regulations at 40 CFR part 710.

2. Partial exemption requirements. Section 710.46(b)(2) contains the requirements for the partial exemption of certain listed chemicals from IUR reporting requirements (i.e., exemption from the requirements listed in § 710.52(c)(4)), as well as the list of chemicals covered by this partial exemption. EPA is correcting the list of partially exempt chemicals in § 710.46(b)(2)(iv), as one of the chemicals on the list was included in error. The initial list of partially exempt substances was derived from three basic sources, as described in the technical support document “Methodology Used for the Initial Selection of Chemicals for the Inventory Update Rule Amendments (IURA) ‘Low Current Interest’ Partial Reporting Exemption” (OPPT, USEPA, July 2, 2002, docket ID number OPPT-2002-0054). One of the sources was the OECD HPV SIDS program, from which a group of linear alkyl benzenes (LABs) was identified to be included in the partial exemption. The SIDS program list of LAB chemicals included CAS number 68648-86-2 (benzene, C14-16-alkyl derivs.). EPA has since determined that this chemical submitted to the SIDS program by the manufacturing company is not actually a LAB, but is rather a branched alkylbenzene with a different carbon chain length range (alkyl range) than the name implied. The substance, which is named “benzene, C4-16-alkyl derivs.,” rather than “benzene, C14-16-alkyl derivs.,” is not one of the chemicals for which EPA had received detailed exposure information nor was this chemical part of the LAB group screened in the OECD HPV SIDS program (Ref. 1). EPA is correcting § 710.46(b)(2)(iv) by removing the chemical identified as CAS number 68648-86-2.

3. Percent production volume associated with physical form requirements. Section 710.52(c)(3)(ix) contains the requirement to report the percentage, rounded off to the closest 10%, of total production volume of the reportable chemical substance that is associated with each physical form reported. The requirement originally stated that “The sum of the percentages reported must not add up to more than 100%.” There are instances, however, where due to rounding the percentage may add up to more than 100%. For example, if a chemical substance is produced in three physical forms with the percentages of 48%, 26%, and 26%, rounding would result in the reporting of 50%, 30%, and 30%. Adding the rounded percentages results in a sum of 110%. EPA is correcting this section by removing the requirement for the percentages to not add up to more than 100%.

4. Site ranges correction. Section 710.52(c)(4)(i)(E) describes the requirements for reporting the number of sites for each combination of industrial processing or use operation, NAICS code, and industrial function category. The number of sites is reported in ranges, and codes are used to report the range. The ranges were originally as follows: less than 10 sites, from 10 to 25, from 25 to 100, from 100 to 250, from 250 to 1,000, from 1,000 to 10,000, and more than 10,000. EPA is adjusting the ranges in order to avoid confusion as to which range must be reported by submitters reporting 25, 100, 250, or 1,000 sites. Thus, the ranges will now be as follows: Less than 10 sites, at least 10 but less than 25, at least 25 but less than 100, at least 100 but less than 250, at least 250 but less than 1,000, at least 1,000 but less than 10,000, and 10,000 or more.

5. Cross-reference correction. Section 710.58(d) provides notice that “[i]f no claim of confidentiality is indicated on the reporting form . . . , or if confidentiality claim substantiation required under paragraphs (c) and (d) of this section is not submitted with the reporting form, EPA may make the information available to the public without further notice to the submitter.” The reference to paragraph (d), however, is incorrect, as that paragraph does not contain a confidentiality claim substantiation requirement. Instead, the appropriate cross reference is to paragraphs (b) and (c), which both contain the claim substantiation requirement. As a result, EPA is correcting § 710.58(d) by changing the cross-reference to the substantiation requirements from “paragraphs (c) and (d)” to “paragraphs (b) and (c).” This change is purely administrative, makes the relevant regulatory provision internally consistent and correct, and does not have any substantive effect on any other part of the regulations at 40 CFR part 710.

6. Availability of reporting documents correction. Section 710.59(c) provides information describing how to obtain IUR reporting documents, including the reporting form and instructions. EPA is correcting information in this section to reflect EPA's current practice in making this information available. In keeping with current technology and industry practices, EPA now makes the reporting documents available through the internet, at www.epa.gov/oppt/iur, and no longer automatically mails the documents to submitters from the previous reporting cycle. Nonetheless, paper copies still will be mailed upon request.

III. Direct Final Rule Procedures

EPA is publishing this rule without prior proposal because the Agency views this as a noncontroversial amendment and anticipates no adverse comment as this action simply makes certain minor corrections to 40 CFR part 710. This final rule will be effective on September 7, 2004, without further notice unless the Agency receives adverse comment by August 6, 2004. If EPA receives adverse comment on one or more distinct amendments, paragraphs, or sections of this rulemaking, the Agency will publish a timely withdrawal in the Federal Register indicating which provisions will become effective and which provisions are being withdrawn due to adverse comment. Any distinct amendment, paragraph, or section of today's rulemaking for which the Agency does not receive adverse comment will become effective on September 7, 2004, notwithstanding any adverse comment on any other distinct amendment, paragraph, or section of today's rule. For any distinct amendment, paragraph, or section of today's rule that is withdrawn due to adverse comment, EPA will publish a notice of proposed rulemaking in a future edition of the Federal Register. The Agency will address the comments on any such distinct amendment, paragraph, or section as part of that proposed rulemaking.

IV. Materials in the Rulemaking Record

The public version of the official record for this rulemaking has been established as described in the ADDRESSES unit under docket ID number OPPT-2003-0075. This record includes the documents located in the docket as well as the documents that are referenced in those documents. The following document is specifically referenced in this final rule. The document is also included in the public version of the official record.

1. E-mail from John Heinze, Council for LAB/LAS Environmental Research, to Leslie Scott, EPA, May 19, 2003.

V. Statutory and Executive Order Reviews

This direct final rule implements corrections to 40 CFR part 710. Since this direct final rule does not impose any new requirements, it is not subject to review by the Office of Management and Budget (OMB) under Executive Order 12866, entitled Regulatory Planning and Review (58 FR 51735, October 4, 1993). Because this direct final rule is exempt from review under Executive Order 12866 due to its lack of significance, this direct final rule is not subject to Executive Order 13211, Actions Concerning Regulations That Significantly Affect Energy Supply, Distribution, or Use (66 FR 28355, May 22, 2001). This direct final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Since this action merely makes minor corrections to 40 CFR part 710, EPA certifies this action will not have significant economic impact on a substantial number of small entities. There will be no adverse impact on small entities resulting from this action. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This action does not alter the relationships or distribution of power and responsibilities established by Congress. The Agency has determined that this rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” This direct final rule will not have substantial direct effects on tribal governments, on the relationship between the Federal Government and Indian tribes, or on the distribution of power and responsibilities between the Federal Government and Indian tribes, as specified in Executive Order 13175. Thus, Executive Order 13175 does not apply to this rule.

VI. Congressional Review Act

The Congressional Review Act, 5 U.S.C. 801 et seq., as added by the Small Business Regulatory Enforcement Fairness Act of 1996, generally provides that before a rule may take effect, the Agency promulgating the rule must submit a rule report, which includes a copy of the rule, to each House of the Congress and the Comptroller General of the United States. EPA will submit a report containing this rule and other required information to the U.S. Senate, the U.S. House of Representatives and the Comptroller General of the United States prior to publication of the rule in the Federal Register. This rule is not a “major rule” as defined by 5 U.S.C. 804(2).

List of Subjects in 40 CFR Part 710

Environmental protection, Chemicals, Hazardous materials, Reporting and recordkeeping requirements.

Dated: June 23, 2004.
Susan B. Hazen,
Acting Assistant Administrator, Office of Prevention, Pesticides and Toxic Substances.

Therefore, 40 CFR chapter I is amended as follows:

PART 710—[AMENDED]

1. The authority citation for part 710 continues to read as follows:

Authority: 15 U.S.C. 2607(a).

2. Section 710.3 is amended by alphabetically adding the following definition to paragraph (d) to read as follows:

* * * * *

§ 710.3 Definitions.

(d) * * *

Non-isolated intermediate means any intermediate that is not intentionally removed from the equipment in which it is manufactured, including the reaction vessel in which it is manufactured, equipment which is ancillary to the reaction vessel, and any equipment through which the substance passes during a continuous flow process, but not including tanks or other vessels in which the substance is stored after its manufacture.

* * * * *

§ 710.43 [Amended]

3. Section 710.43 is amended by removing the definition for “non-isolated intermediate.”

§ 710.46 [Amended]

4. Section 710.46 is amended by removing the entire CAS No. entry for “68648-86-2” from the table in paragraph (b)(2)(iv).

5. Section 710.52 is amended by removing the last sentence in paragraph (c)(3)(ix); italicizing the heading “Specific information for chemical substances manufactured in amounts of 300,000 lbs. or more” in paragraph (c)(4); italicizing the heading “Industrial processing and use information” in paragraph (c)(4)(i); and revising the table in paragraph (c)(4)(i)(E) to read as follows:

§ 710.52 Reporting information to EPA.

* * * * *

(c) * * *

(4) * * *

(i) * * *

(E) * * *

Codes for Reporting Numbers of Sites
Codes | Range
S1 | less than 10 sites
S2 | at least 10 but less than 25 sites
S3 | at least 25 but less than 100 sites
S4 | at least 100 but less than 250 sites
S5 | at least 250 but less than 1,000 sites
S6 | at least 1,000 but less than 10,000 sites
S7 | 10,000 or more sites

* * * * *

§ 710.58 [Amended]

6. Section 710.58 is amended by italizing the headings for paragraphs (b) and (c) and changing the phrase “paragraphs (c) and (d)” to “paragraphs (b) and (c)” in paragraph (d).

7. Section 710.59 is amended by revising the introductory text of paragraph (c) to read as follows:

§ 710.59 Availability of reporting form and instructions.

* * * * *

(c) Obtain the reporting documents. EPA will send a letter with instructions describing how to obtain the reporting documents, including the reporting form and reporting instructions, to those submitters that reported in the IUR submission period that occurred immediately prior to the current submission period. EPA now makes the reporting documents available through the Internet, at http://www.epa.gov/oppt/iur. Failure to receive such a letter does not obviate or otherwise affect the requirement to submit a timely report. If you did not receive such a letter, but are required to report, you may obtain a copy of the form and other reporting documents from EPA by submitting a request for this information as follows:

* * * * *

[FR Doc. 04-15353 Filed 7-6-04; 8:45 am]

BILLING CODE 6560-50-S